INTERNATIONAL TRADE COMMISSION

[USITC SE-13-007]

Government in the Sunshine Act Meeting Notice

AGENCY HOLDING THE MEETING: United States International Trade Commission

TIME AND DATE: February 15, 2013 at 11:00 a.m.

PLACE: Room 101, 500 E Street SW., Washington, DC 20436, Telephone: (202) 205-2000.

STATUS: Open to the public.

Matters To Be Considered

1. Agendas for future meetings: none.

2. Minutes.

3. Ratification List.

4. Vote in Inv. Nos. 701-TA-350 and 731-TA-616 and 618 (Third Review) (Corrosion-Resistant Carbon Steel Flat Products from Germany and Korea). The Commission is currently scheduled to transmit its determinations and Commissioners' opinions to the Secretary of Commerce on or before March 5, 2013.

5. Outstanding action jackets: none.

In accordance with Commission policy, subject matter listed above, not disposed of at the scheduled meeting, may be carried over to the agenda of the following meeting.

Issued: February 6, 2013.
By order of the Commission.
William R. Bishop,
Supervisory Hearings and Information Officer.

[FR Doc. 2013-02965 Filed 2-6-13; 11:15 am]

BILLING CODE 7020-02-P